ENVIRONMENTAL PROTECTION AGENCY

[Docket No. EPA-HQ-ORD-2004-0015; FRL-8038-5]

Air Quality Criteria for Ozone and Related Photochemical Oxidants

AGENCY: Environmental Protection Agency (EPA).

ACTION: Notice of Availability of Final Document.

SUMMARY: The U.S. Environmental Protection Agency (EPA) Office of Research and Development's National Center for Environmental Assessment (NCEA) is announcing the availability of a final document, “Air Quality Criteria for Ozone and Related Photochemical Oxidants (Final),” Volumes I, II, and III, EPA 600/R-05/004aF-cF.

DATES: This document will be available on or about February 28, 2006.

FOR FURTHER INFORMATION CONTACT: For questions on availability of the document, refer to section B, SUPPLEMENTARY INFORMATION, in this notice. For technical information, contact Lori White, Ph.D., ORD/NCEA: telephone number 919-541-3146; fax number 919-541-1818; e-mail address white.lori@epa.gov.

SUPPLEMENTARY INFORMATION:

I. General Information

A. Background

Section 108 (a) of the Clean Air Act directs the EPA Administrator to identify certain pollutants which “may reasonably be anticipated to endanger public health and welfare” and to issue air quality criteria for them. These air quality criteria are to “ * * * accurately reflect the latest scientific knowledge useful in indicating the kind and extent of all identifiable effects on public health or welfare which may be expected from the presence of [a] pollutant in the ambient air * * *” Under section 109 of the Act, EPA is then to establish National Ambient Air Quality Standards (NAAQS) for each pollutant for which EPA has issued criteria. Section 109(d) of the Act subsequently requires periodic review and, if appropriate, revision of existing air quality criteria to reflect advances in scientific knowledge on the effects of the pollutant on public health and welfare. EPA is also to revise the NAAQS, if appropriate, based on the revised criteria.

Ozone is one of six “criteria” pollutants for which EPA has established air quality criteria and NAAQS. On September 26, 2000 (65 FR 57810), EPA formally initiated its current review of the criteria and NAAQS for ozone, requesting the submission of recent scientific information on specified topics. A draft Project Work Plan for a revised Ozone AQCD, with preliminary outlines for the proposed chapters, was released for public comment (66 FR 67524, December 31, 2001) and reviewed by the Clean Air Scientific Advisory Committee (CASAC) of EPA's Science Advisory Board (68 FR 3527, January 24, 2003). EPA later convened a series of workshops to discuss draft sections and chapters that had been developed for revising the existing Ozone AQCD (68 FR 17365, April 9, 2003, and 68 FR 60369, October 22, 2003).

In January 2005, EPA announced the availability of the First External Review Draft of the revised Ozone AQCD for public review and comments (70 FR 4850, January 31, 2005) and presented the draft to the CASAC Ozone Review Panel on May 4-5, 2005. Taking into account public and CASAC comments, EPA prepared and announced a Second External Review Draft for public review and comment (70 FR 51810, August 31, 2005).

At a public meeting in December 2005, EPA presented the Second External Review Draft to the Clean Air Scientific Advisory Committee (CASAC) for their review. Public comments and comments from the CASAC Review Panel were considered in preparing the final Ozone AQCD announced in this Federal Register notice.

B. How To Obtain Copies of the Final Ozone AQCD and Other Related Information

Internet users can download a copy of this document from the NCEA home page. The URL is http://www.epa.gov/ncea. A limited number of CD-ROM or paper copies will be available. Contact Ms. Diane Ray, ORD/NCEA: telephone number 919-541-3637; fax number 919-541-1818; or e-mail address ray.diane@epa.gov . Please provide the document's title, “Air Quality Criteria for Ozone and Related Photochemical Oxidants (Final),” Volumes I, II, and III, EPA 600/R-05/004aF-cF, as well as your name and address, to facilitate processing of your request.

EPA has established an official public docket for information pertaining to the revision of the Ozone AQCD, identified by Docket ID No. EPA-HQ-ORD-2004-0015. All documents in this docket are listed in the http://www.regulations.gov index. Some information is not publicly available, e.g., Confidential Business Information (CBI). Other information, such as copyrighted material, is publicly available only in hard copy. Publicly available docket materials are available either electronically in http://www.regulations.gov or in hard copy at the Office of Environmental Information (OEI) Docket, EPA/DC, EPA West, Room B102, 1301 Constitution Ave., NW., Washington, DC: telephone 202-566-1752; facsimile 202-566-1753; or e-mail ORD.Docket@epa.gov. The Public Reading Room is open 8:30 a.m. to 4:30 p.m., Monday through Friday, excluding legal holidays: telephone 202-566-1744.

Dated : February 22, 2006.
P.W. Preuss,
Director, National Center for Environmental Assessment.

[FR Doc. E6-2799 Filed 2-27-06; 8:45 am]

BILLING CODE 6560-50-P